Title 3—

The President

Proclamation 8780 of March 1, 2012

Women’s History Month, 2012

By the President of the United States of America

A Proclamation

[Editorial Note: Proclamation 8780, originally published on pages 13185-13186 in the Federal Register of Tuesday, March 6, 2012, is being reprinted with a White House correction.]

As Americans, ours is a legacy of bold independence and passionate belief in fairness and justice for all. For generations, this intrepid spirit has driven women pioneers to challenge injustices and shatter ceilings in pursuit of full and enduring equality. During Women’s History Month, we commemorate their struggles, celebrate centuries of progress, and reaffirm our steadfast commitment to the rights, security, and dignity of women in America and around the world.

We see the arc of the American story in the dynamic women who shaped our present and the groundbreaking girls who will steer our future. Fifty-one years ago, when former First Lady Eleanor Roosevelt confronted President John F. Kennedy about the lack of women in government, he appointed her the head of a commission to address the status of women in America and the discrimination they routinely faced. Though the former First Lady passed away before the commission finished its work, its report would spur action across our country and galvanize a movement toward true gender parity. Our Nation stands stronger for that righteous struggle, and last March my Administration was proud to release the first comprehensive Federal report on the status of American women since President Kennedy’s commission in 1963. Today, women serve as leaders throughout industry, civil society, and government, and their outstanding achievements affirm to our daughters and sons that no dream is beyond their reach.

While we have made great strides toward equality, we cannot rest until our mothers, sisters, and daughters assume their rightful place as full participants in a secure, prosperous, and just society. With the leadership of the White House Council on Women and Girls, my Administration is advancing gender equality by promoting workplace flexibility, striving to bring more women into math and science professions, and fighting for equal pay for equal work. We are combating violence against women by revising an antiquated definition of rape and harnessing the latest technology to prevent dating violence, domestic violence, and sexual assault. From securing women’s health and safety to leveling the playing field and ensuring women have full and fair access to opportunity in the 21st century, we are making deep and lasting investments in the future of all Americans.

Because the peace and security of nations around the globe depend upon the education and advancement of women and girls, my Administration has placed their perspectives and needs at the heart of our foreign policy. Last December, I released the first United States National Action Plan on Women, Peace, and Security to help ensure women play an equal role in peace-building worldwide. By fully integrating women’s voices into peace processes and our work to prevent conflict, protect civilians, and deliver humanitarian assistance, the United States is bringing effective support to women in areas of conflict and improving the chances for lasting peace. In the months ahead, my Administration will continue to collaborate with domestic and international partners on new initiatives to bring economic and political opportunity to women at home and abroad.

During Women’s History Month, we recall that the pioneering legacy of our grandmothers and great-grandmothers is revealed not only in our museums and history books, but also in the fierce determination and limitless potential of our daughters and granddaughters. As we make headway on the crucial issues of our time, let the courageous vision championed by women of past generations inspire us to defend the dreams and opportunities of those to come.

NOW, THEREFORE, I, BARACK OBAMA, President of the United States of America, by virtue of the authority vested in me by the Constitution and the laws of the United States, do hereby proclaim March 2012 as Women’s History Month. I call upon all Americans to observe this month and to celebrate International Women’s Day on March 8, 2012, with appropriate programs, ceremonies, and activities that honor the history, accomplishments, and contributions of American women. I also invite all Americans to visit www.WomensHistoryMonth.gov to learn more about the generations of women who have shaped our history.

IN WITNESS WHEREOF, I have hereunto set my hand this first day of March, in the year of our Lord two thousand twelve, and of the Independence of the United States of America the two hundred and thirty-sixth.

[FR Doc. 2012-7295

Filed 3-23-12; 8:45 am]

Billing code 3295-F2-P